DEPARTMENT OF LABOR

Employment and Training Administration

[TA-W-56,214 and TA-W-56,214A]

Pfaltzgraff Company, Pfaltzgraff Distribution Center, York, PA, and Pfaltzgraff Company, Thomasville, PA; Notice of Termination of Investigation

Pursuant to section 221 of the Trade Act of 1974, as amended, an investigation was initiated on December 13, 2004, in response to a petition filed by a company official on behalf of workers at Pfaltzgraff Company, Pfaltzgraff Distribution Center, York, Pennsylvania (TA-W-56,214) and Pfaltzgraff Company, Thomasville, Pennsylvania (TA-W-56,214A).

The petitioner has requested that the petitions be withdrawn. Consequently, further investigation would serve no purpose and the investigation has been terminated.

Signed in Washington, DC, this 26th day of January, 2005.
Linda G. Poole,
Certifying Officer, Division of Trade Adjustment Assistance.

[FR Doc. E5-702 Filed 2-22-05; 8:45 am]

BILLING CODE 4510-30-P